DEPARTMENT OF THE INTERIOR

National Park Service

[NPS-WASO-NAGPRA-NPS0037912; PPWOCRADN0-PCU00RP14.R50000]

Notice of Inventory Completion: Placer County Museums, Auburn, CA

AGENCY: National Park Service, Interior.

ACTION: Notice.

SUMMARY: In accordance with the Native American Graves Protection and Repatriation Act (NAGPRA), the Placer County Museums has completed an inventory of human remains and associated funerary objects and has determined that there is a cultural affiliation between the human remains and associated funerary objects and Indian Tribes or Native Hawaiian organizations in this notice.

DATES: Repatriation of the human remains and associated funerary objects in this notice may occur on or after June 12, 2024.

ADDRESSES: Ralph Gibson, Museums Administrator, Placer County Museums, 101 Maple Street, Auburn, CA 95603, telephone (530) 889-6500, email museums@placer.ca.gov.

SUPPLEMENTARY INFORMATION: This notice is published as part of the National Park Service's administrative responsibilities under NAGPRA. The determinations in this notice are the sole responsibility of the Placer County Museums, and additional information on the determinations in this notice, including the results of consultation, can be found in the inventory or related records. The National Park Service is not responsible for the determinations in this notice.

Abstract of Information Available

Based on the information available, human remains representing, at least, six individuals have been reasonably identified.

Human remains representing, at least, one individual has been reasonably identified from an unknown location. The one lot of associated funerary objects is one lot of modified beads. At an unknown date, the one lot of modified beads was removed from the site.

Human remains representing, at least, one individual has been reasonably identified from a local Native American burial site in Placer County, CA. The two lots of associated funerary objects are one lot of modified beads and one lot of fauna. In 1951, the human remains and two lots of associated funerary objects were removed from the site.

Human remains representing, at least, one individual has been reasonably identified from a site in Placer County, CA. The three lots of associated funerary objects are one lot of modified beads, one lot of modified stones, and one lot of fauna. At an unknown date, the three lots of associated funerary objects were removed from the site.

Human remains representing, at least, one individual has been reasonably identified from a location in the vicinity of Christian Valley in Placer County, CA. The one lot of associated funerary objects is one lot of modified beads. In 1913, the one lot of modified beads was removed from the site.

Human remains representing, at least, one individual has been reasonably identified from a site that was two or three miles east of Lincoln, CA. The four lots of associated funerary objects are one lot of modified beads, one lot of shells, one lot of fauna, and one lot of unidentified materials. In the 1920s, the four lots of associated funerary objects were removed from the site.

Human remains representing, at least, one individual has been reasonably identified from an unknown location that is believed to be somewhere in west Placer County, CA. No associated funerary objects are present.

Cultural Affiliation

Based on the information available and the results of consultation, cultural affiliation is clearly identified by the information available about the human remains and associated funerary objects described in this notice.

Determinations

The Placer County Museums has determined that:

• The human remains described in this notice represent the physical remains of six individuals of Native American ancestry.

• The 11 lots of objects described in this notice are reasonably believed to have been placed intentionally with or near individual human remains at the time of death or later as part of the death rite or ceremony.

• There is a reasonable connection between the human remains and associated funerary objects described in this notice and the United Auburn Indian Community of the Auburn Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 12, 2024. If competing requests for repatriation are received, the Placer County Museums must determine the most appropriate requestor prior to repatriation. Requests for joint repatriation of the human remains and associated funerary objects are considered a single request and not competing requests. The Placer County Museums is responsible for sending a copy of this notice to the Indian Tribes and Native Hawaiian organizations identified in this notice.

Authority: Native American Graves Protection and Repatriation Act, 25 U.S.C. 3003, and the implementing regulations, 43 CFR 10.10.

Dated: May 3, 2024.
Melanie O'Brien,
Manager, National NAGPRA Program.

[FR Doc. 2024-10331 Filed 5-10-24; 8:45 am]

BILLING CODE 4312-52-P